DEPARTMENT OF COMMERCE

Foreign-Trade Zones Board

[B-01-2015]

Foreign-Trade Zone (FTZ) 174—Pima County, Arizona; Authorization of Production Activity; Global Solar Energy, Inc. (Thin Film Photovoltaic Solar Products); Tucson, Arizona

On January 14, 2015, Tucson Regional Economic Opportunities, Inc., grantee of FTZ 174, submitted a notification of proposed production activity to the Foreign-Trade Zones (FTZ) Board on behalf of Global Solar Energy, Inc. (Global Solar), located in Tucson, Arizona. A separate application for subzone designation at the Global Solar facility is planned and will be processed under Section 400.38 of the FTZ Board's regulations.

The notification was processed in accordance with the regulations of the FTZ Board (15 CFR part 400), including notice in the Federal Register inviting public comment (80 FR 3952, 01-26-2015). The production activity described in the notification is authorized for a period of five years (until May 14, 2020), subject to the FTZ Act and the Board's regulations, including Section 400.14.

Dated: May 14, 2015.
Andrew McGilvray,
Executive Secretary.

[FR Doc. 2015-12249 Filed 5-19-15; 8:45 am]

BILLING CODE 3510-DS-P